FEDERAL ACCOUNTING STANDARDS ADVISORY BOARD

Notice of Renewal of Federal Accounting Standards Advisory Board Charter

AGENCY: Federal Accounting Standards Advisory Board.

ACTION: Notice.

SUMMARY: Notice is hereby given that under the authority and in furtherance of the objectives of agency regulations, the Secretary of the Treasury, the Director of the Office of Management and Budget, and the Comptroller General of the United States (the sponsors) have agreed to continue an advisory committee to consider and recommend accounting standards and principles for the federal government. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d), the Federal Advisory Committee Act, as amended (5 U.S.C. App.).

Dated: October 28, 2021.
Monica R. Valentine,
Executive Director.

[FR Doc. 2021-24235 Filed 11-4-21; 8:45 am]

BILLING CODE P